DEPARTMENT OF LABOR

Employment and Training Administration

[TA-W-55,445]

Irwin Manufactuirng Corporation, Ocilla, GA; Notice of Termination of Investigation

Pursuant to section 221 of the Trade Act of 1974, as amended, an investigation was initiated on August 16, 2004, in response to a petition filed by the company on behalf of workers at Irwin Manufacturing, Ocilla, Georgia.

The petitioner has requested that the petition be withdrawn. Consequently, further investigation in this case would serve no purpose, and the investigation has been terminated.

Signed at Washington, DC, this 13th day of September, 2004.
Linda G. Poole,
Certifying Officer, Division of Trade Adjustment Assistance.

[FR Doc. E4-2339 Filed 9-22-04; 8:45 am]

BILLING CODE 4510-30-P